ENVIRONMENTAL PROTECTION AGENCY

40 CFR Part 721

[EPA-HQ-OPPT-2014-0702; FRL-9919-93]

RIN 2070-AB27

Proposed Revocation of Significant New Uses of Metal Salts of Complex Inorganic Acids

AGENCY: Environmental Protection Agency (EPA).

ACTION: Proposed rule.

SUMMARY: EPA is proposing to revoke the significant new use rule (SNUR) promulgated under section 5(a)(2) of the Toxic Substances Control Act (TSCA) for two chemical substances which were identified generically as metal salts of complex inorganic oxyacids which were the subject of premanufacture notices (PMNs) P-89-576 and P-89-577. EPA issued a SNUR based on a TSCA section 5(e) consent order designating certain activities as significant new uses. EPA has received test data for the chemical substances and is proposing to revoke the SNUR.

DATES: Comments must be received on or before January 16, 2015.

ADDRESSES: Submit your comments, identified by docket identification (ID) number EPA-HQ-OPPT-2014-0702, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: For technical information contact: Jim Alwood, Chemical Control Division (7405M), Office of Pollution Prevention and Toxics, Environmental Protection Agency, 1200 Pennsylvania Ave. NW., Washington, DC 20460-0001; telephone number: (202) 564-8974; email address: alwood.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture (including import), process, or use the chemical substances contained in this proposed rule. The following list of North American Industrial Classification System (NAICS) codes is not intended to be exhaustive, but rather provides a guide to help readers determine whether this document applies to them. Potentially affected entities may include:

• Manufacturers or processors of the chemical substances (NAICS codes 325 and 324110), e.g., chemical manufacturing and petroleum refineries.

This action may also affect certain entities through pre-existing import certification and export notification rules under TSCA. Chemical importers are subject to the TSCA section 13 (15 U.S.C. 2612) import certification requirements promulgated at 19 CFR 12.118 through 12.127 and 19 CFR 127.28. Chemical importers must certify that the shipment of the chemical substance complies with all applicable rules and orders under TSCA. Importers of chemicals subject to a SNUR must certify their compliance with the SNUR requirements. The EPA policy in support of import certification appears at 40 CFR part 707, subpart B. Importers of the chemical, the subject of this action, would no longer be required to certify compliance with the SNUR requirements if the revocation becomes effective. In addition, if this proposed SNUR revocation becomes effective, persons who export or intend to export the chemical that is the subject of this action would no longer be subject to the TSCA section 12(b)(15 U.S.C. 2611(b) export notification requirements at 40 CFR part 707, that are currently triggered by the SNUR.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background

A. What action is the agency taking?

In the Federal Register of August 15, 1990 (55 FR 33305) (FRL-3741-8), EPA promulgated a SNUR at 40 CFR 721.4680 for the chemical substances identified generically as metal salts of complex inorganic oxyacids (PMNs P-89-576 and P-89-577). That SNUR designated certain activities as significant new uses based on a TSCA section 5(e) consent order for the PMNs that was issued under TSCA sections 5(e)(1)(A)(i), and 5(e)(1)(A)(ii)(II) based on a finding that the chemical substances may be produced in substantial quantities and there may be significant (or substantial) human exposure to the chemical substances. EPA has received human health testing for the chemical substances and, based on its review of these data, EPA now proposes to revoke the SNUR pursuant to § 721.185. In this unit, EPA provides a brief description of these chemical substances, including the PMN numbers, generic chemical names, the Federal Register publication date and citation, the docket ID number, the basis for revoking the SNUR under § 721.185, and the CFR citation of the SNUR.

PMN Numbers P-89-576 and P-89-577

Chemical name: Metal salts of complex inorganic oxyacids (generic).

CAS number: Not available.

Federal Register publication date and citation: August 15, 1990 (55 FR 33305).Basis for revocation of SNUR: EPA issued a SNUR for these chemical substances that designated certain activities as significant new uses based on a TSCA section 5(e) consent order for the PMNs that was issued under TSCA sections 5(e)(1)(A)(i), and 5(e)(1)(A)(ii)(II) based on a finding that the chemical substances may be produced in substantial quantities and there may be significant (or substantial) human exposure to the chemical substances. The SNUR required notification before exceeding the production volume limit in the TSCA section 5(e) consent order. Subsequently, a manufacturer of the chemical substances petitioned EPA to revoke the SNUR based on the results of the submitted acute dermal study and a 28-day oral toxicity study, for P-89-576 which demonstrated no adverse health effects. Based on the results of the testing, EPA determined that both substances have inherently low toxicity. Therefore, EPA finds that for activities involving the chemical substances that have been designated as significant new uses pending the completion of testing, adequate test data developed in accordance with applicable procedures and criteria have been submitted to EPA. Therefore, EPA proposes that the SNUR for these chemical substances be revoked pursuant to § 721.185(a)(6).

CFR citation: 40 CFR 721.4680

B. What is the agency's authority for taking this action?

Upon conclusion of the review for P-89-576 and P-89-577 in 1990, EPA designated certain activities as significant new uses based on a TSCA section 5(e) consent order for the PMNs that was issued under TSCA sections 5(e)(1)(A)(i), and 5(e)(1)(A)(ii)(II) based on a finding that the chemical substances may be produced in substantial quantities and there may be significant (or substantial) human exposure to the chemical substances. Under § 721.185, EPA may at any time revoke a SNUR for a chemical substance which has been added to subpart E of 40 CFR part 721 if EPA makes one of the determinations set forth in § 721.185(a)(1) through (6). Revocation may occur on EPA's initiative or in response to a written request. Under § 721.185(b)(3), if EPA concludes that a SNUR should be revoked, the Agency will propose the changes in the Federal Register, briefly describe the grounds for the action, and provide interested parties an opportunity to comment.

EPA has determined that the criteria set forth in § 721.185(a)(6) have been satisfied for the chemical substances; therefore, EPA is proposing to revoke the SNUR for these chemical substances. The significant new use notification and the recordkeeping requirements at 40 CFR 721.4680 would terminate if and when this proposed revocation becomes effective. In addition, export notification under TSCA section 12(b) and 40 CFR part 707, subpart D, triggered by the SNUR would no longer be required.

III. Statutory and Executive Order Reviews

This proposed rule would revoke or eliminate an existing regulatory requirement and does not contain any new or amended requirements. As such, the Agency has determined that this proposed SNUR revocation would not have any adverse impacts, economic or otherwise.

The Office of Management and Budget (OMB) has exempted these types of regulatory actions from review under Executive Order 12866, entitled “Regulatory Planning and Review” (58 FR 51735, October 4, 1993). This action does not contain any information collections subject to approval under the Paperwork Reduction Act (PRA), (44 U.S.C.3501 et seq.). Since this action eliminates a reporting requirement, the Agency certifies pursuant to section 605(b) of the Regulatory Flexibility Act (RFA) (5 U.S.C.601 et seq.), that this SNUR revocation would not have a significant economic impact on a substantial number of small entities.

For the same reasons, this action does not require any action under Title II of the Unfunded Mandates Reform Act (UMRA) (2 U.S.C. 1501 et seq.) (Pub.L. 104-4). This action has neither Federalism implications, because it would not have substantial direct effects on States, on the relationship between the national government and the States, or on the distribution of power and responsibilities among the various levels of government, as specified in Executive Order 13132 entitled “Federalism” (64 FR 43255, August 10, 1999), nor Tribal implications, because it would not have substantial direct effects on one or more Indian Tribes, on the relationship between the Federal Government and Indian Tribes, or on the distribution of power and responsibilities between the Federal Government and Indian Tribes, as specified in Executive Order 13175 entitled “Consultation and Coordination with Indian Tribal Governments” (65 FR 67249, November 9, 2000).

This action is not subject to Executive Order 13045 entitled “Protection of Children from Environmental Health Risks and Safety Risks” (62 FR 19885, April 23, 1997), because this is not an economically significant regulatory action as defined under Executive Order 12866, and it does not address environmental health or safety risks disproportionately affecting children. This action is not subject to Executive Order 1311, entitled “Actions Concerning Regulations That Significantly Affect Energy Supply, Distribution, or Use” (66 FR 28355, May 22, 2001), because this action is not expected to affect energy supply, distribution, or use. Because this action does not involve any technical standards, section 12(d) of the National Technology Transfer and Advancement Act of 1995 (NTTAA), section 12(d) (15 U.S.C. 272 note), does not apply to this action. This action does not involve special considerations of environmental justice related issues as required by Executive Order 12898 entitled “Federal Actions to Address Environmental Justice in Minority Populations and Low-Income Populations” (59 FR 7629, February 16, 1994).

List of Subjects in 40 CFR Part 721

Environmental protection, Chemicals, Hazardous substances, Reporting and recordkeeping requirements.

Dated: December 11, 2014.
Maria J. Doa,
Director, Chemical Control Division, Office of Pollution Prevention and Toxics.

Therefore, it is proposed that 40 CFR part 721 be amended as follows:

PART 721—[AMENDED]

1. The authority citation for part 721 continues to read as follows:

Authority: 15 U.S.C. 2604, 2607, and 2625(c).

§ 721.4680 [Removed]

2. Remove § 721.4680.

[FR Doc. 2014-29575 Filed 12-16-14; 8:45 am]

BILLING CODE 6560-50-P